DEPARTMENT OF DEFENSE

Office of the Secretary

[Docket ID DoD-2014-OS-0061]

Submission for OMB Review; Comment Request

ACTION: Notice.

SUMMARY: The Department of Defense has submitted to OMB for clearance, the following proposal for collection of information under the provisions of the Paperwork Reduction Act.

DATES: Consideration will be given to all comments received by November 3, 2014.

FOR FURTHER INFORMATION CONTACT: Fred Licari, 571-372-0493.

SUPPLEMENTARY INFORMATION:

Title, Associated Form and OMB Number: National Security Education Program (NSEP) Service Agreement for Scholarship and Fellowship Awards; DD Form 2752; DD Form 2753; OMB Control Number 0704-0368.

Type of Request: Extension

Number of Respondents: 1650

Responses per Respondent: 1

Annual Responses: 1650

Average Burden per Response: 10 minutes

Annual Burden Hours: 275

Needs and Uses: The information collection requirement is necessary to record the original award amount and service requirement for each NSEP award recipient (DD Form 2752) and the progress of each NSEP award recipient in fulfilling his/her Congressionally-mandated service requirement signed at the time of award (DD Form 2753). Respondents are undergraduate and graduate students who agree to the terms of their award (DD Form 2752) and who agree upon receipt of award to submit the Service Agreement Report (DD Form 2753) annually until their service requirement is completed in full. The information is used to monitor the progress of award recipients as they fulfill their service obligation, namely, to work in positions related to national security.

Affected Public: Individuals or households.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Mr. Frederick Licari.

Written requests for copies of the information collection proposal should be sent to Mr. Licari at WHS/ESD Directives Division, 4800 Mark Center Drive, East Tower, Suite 02G09, Alexandria, VA 22350-3100.

Dated: September 29, 2014.
Aaron Siegel,
Alternate OSD Federal Register Liaison Officer, Department of Defense.

[FR Doc. 2014-23471 Filed 10-1-14; 8:45 am]

BILLING CODE 5001-06-P